DEPARTMENT OF ENERGY

Federal Energy Regulatory Commission

[Docket No. RP04-17-000]

Transcontinental Gas Pipe Line Corporation; Notice of Tariff Filing

October 7, 2003.

Take notice that on October 1, 2003 Transcontinental Gas Pipe Line Corporation (Transco) tendered for filing as part of its FERC Gas Tariff, Third Revised Volume No. 1 Nineteenth Revised Sheet No. 29, with an effective date of November 1, 2003.

Transco states that the filing is submitted pursuant to Section 38 of the General Terms and Conditions of Transco's FERC Gas Tariff which provides that Transco will file a redetermination of its fuel retention percentage applicable to Rate Schedules LG-A, LNG and LG-S to be effective each November 1. Transco further states the derivation of the revised fuel retention percentage included therein is based on Transco's actual gas required for operations (GRO) for the period September 2000 through August 2003 plus the balance accumulated in the Deferred GRO Account at August 31, 2003. Trasnco indicates that Appendix A to the filing, contains work papers supporting the derivation of the revised fuel retention percentages.

Transco states that copies of the filing are being mailed to its affected customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Linda Mitry,
Acting Secretary.

[FR Doc. 03-26067 Filed 10-14-03; 8:45 am]

BILLING CODE 6717-01-P